DEPARTMENT OF TRANSPORTATION

Federal Aviation Administration

Public Notice for Waiver of Aeronautical Land-Use Assurance Palwaukee Municipal Airport, Wheeling/Prospect Heights, IL

AGENCY: Federal Aviation Administration, DOT.

ACTION: Notice of intent of waiver with respect to land.

SUMMARY: The Federal Aviation Administration (FAA) is giving notice that a portion of the airport (0.010 acres, a portion of Parcel 19, located along the west side of Milwaukee Avenue and north of westbound Palatine Frontage Road, presently used as open land for control of FAR Part 77 surfaces and compatible land use) is not needed for aeronautical use, as shown on the Airport Layout Plan. There are no impacts to the airport by allowing the airport to dispose of the property. The proposed use of the parcel is additional right-of-way for vehicles turning from Milwaukee Avenue to westbound Palatine Frontage Road. Parcel 19 was acquired on December 26, 1986, under FAA Project Numbers 3-17-0018-01, 3-17-0018-02, 3-17-0018-03 and 3-17-0018-04 (90% Federal participation). In accordance with section 47107(h) of title 49, United States Code, this notice is required to be published in the Federal Register 30 days before modifying the land-use assurance that requires the property to be used for an aeronautical purpose. The release of this portion of Parcel 19 will provide additional right-of-way to allow easier turns onto westbound Palatine Frontage Road. The improvements will benefit the Palwaukee Municipal Airport by improving access to the airport.

DATES: Comments must be received on or before June 17, 2002.

FOR FURTHER INFORMATION CONTACT: Chad Oliver, Program Manager, 2300 East Devon Avenue, Des Plaines, IL, 60018. Telephone Number 847-294-7199/FAX Number 847-294-7046. Documents reflecting this FAA action may be reviewed at this same location or at Palwaukee Municipal Airport, Wheeling/Prospect Heights, Illinois.

SUPPLEMENTARY INFORMATION: This notice announces that the FAA intends to authorize the disposal of the subject airport property at Palwaukee Municipal Airport, Wheeling/Prospect Heights, Illinois.

Approval does not constitute a commitment by the FAA to financially assist in disposal of the subject airport property nor a determination that all measures covered by the program are eligible for grant-in-aid funding from the FAA. The disposition of proceeds from the disposal of the airport property will be in accordance with FAA's Policy and Procedures Concerning the Use of Airport Revenue, published in the Federal Register on February 16, 1999.

Issued in Des Plaines, Illinois on March 8, 2002.
Philip M. Smithmeyer,
Manager, Chicago Airports District Office, FAA, Great Lakes Region.

[FR Doc. 02-12288 Filed 5-15-02; 8:45 am]

BILLING CODE 4910-13-M